DEPARTMENT OF ENERGY

Federal Energy Regulatory Commission

[Docket No. EL03-50-000]

Powerex Corp., Complainant, v. California Power Exchange Corporation, Respondent; Notice of Complaint

February 21, 2003.

Take notice that on February 20, 2003, Powerex Corp. (Powerex) filed a complaint in which it requests that the Commission find that the California Power Exchange Corporation (CalPX) should release Powerex's letter of credit provided as a condition for participating in the CalPX's now-defunct markets, consistent with the Commission's September 30, 2002, order on rehearing in Constellation Power Source, Inc. v. California Power Exchange Corporation, 100 FERC ¶ 61,380 (2002) and return Powerex's chargeback amounts. Powerex requests that the Commission invoke its Fast-Track Proceeding procedures.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before the comment date. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866)208-3676, or for TTY, contact (202)502-8659. The answer to the complaint, comments, protests and interventions may be filed electronically via the Internet in lieu of paper; see 18 CFR 385.2001(a)(1)(iii) and the instructions on the Commission's Web site under the “e-Filing” link. The Commission strongly encourages electronic filings.

Comment Date: March 12, 2003.

Magalie R. Salas,
Secretary.

[FR Doc. 03-4701 Filed 2-26-03; 8:45 am]

BILLING CODE 6717-01-P